DEPARTMENT OF TRANSPORTATION

Federal Aviation Administration

14 CFR Part 39

[Docket No. FAA-2008-0071; Directorate Identifier 2006-SW-27-AD]

RIN 2120-AA64

Airworthiness Directives; Bell Helicopter Textron Canada Model 222, 222B, 222U, 230, and 430 Helicopters

AGENCY: Federal Aviation Administration, DOT.

ACTION: Notice of proposed rulemaking (NPRM).

SUMMARY: This document proposes superseding an existing airworthiness directive (AD) for Bell Helicopter Textron Canada (BHTC) helicopters. That AD currently requires certain checks and inspections of the tail rotor blades. If a crack is found, the existing AD requires replacing the tail rotor blade (blade) with an airworthy blade before further flight. This action would require the same checks and inspections until they are required to be replaced and would remove certain serial numbered and specifically coded tail rotor blades from the applicability of the AD. This proposal is prompted by the approved rework of certain tail rotor blades and two newly redesigned tail rotor blades, which, if installed, constitutes terminating action for the inspection requirements. The actions specified by the proposed AD are intended to detect a crack in a blade, and to prevent loss of a blade and subsequent loss of control of the helicopter.

DATES: Comments must be received on or before September 26, 2008.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building, Ground Floor, Room W12-140, 1200 New Jersey Avenue, SE., Washington, DC 20590.

• Hand Delivery: U.S. Department of Transportation, Docket Operations, M-30, West Building, Ground Floor, Room W12-140, 1200 New Jersey Avenue, SE., Washington, DC 20590, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272.

You may examine the comments to this proposed AD in the AD docket on the Internet at http://www.regulations.gov.

FOR FURTHER INFORMATION CONTACT: Sharon Miles, Aviation Safety Engineer, FAA, Rotorcraft Directorate, Regulations and Policy Group, Fort Worth, Texas 76193-0111, telephone (817) 222-5122, fax (817) 222-5961.

SUPPLEMENTARY INFORMATION:

Comments Invited

We invite you to submit any written data, views, or arguments regarding this proposed AD. Send your comments to the address listed under the caption ADDRESSES. Include the docket number “FAA-2008-0071, Directorate Identifier 2006-SW-27-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-19478).

Examining the Docket

You may examine the docket that contains the proposed AD, any comments, and other information in person at the Docket Management System (DMS) Docket Office between 9 a.m. and 5 p.m., Monday through Friday, except Federal holidays. The Docket Office (telephone 1-800-647-5527) is located in Room W12-140 on the ground floor of the West Building at the street address stated in the ADDRESSES section. Comments will be available in the AD docket shortly after receipt.

Discussion

On February 10, 2005, we issued AD 2005-04-09, Amendment 39-13981 (70 FR 8021, February 17, 2005), that superseded AD 2004-26-11, Amendment 39-13923 (70 FR 7, January 3, 2005), to require the following:

• Within 3 hours time-in-service (TIS), and thereafter at intervals not to exceed 3 hours TIS, clean and visually check both sides of each blade for a crack in the area around the tail rotor feathering bearing. An owner/operator (pilot) may perform this check. Pilots may perform the checks required by paragraph (a) of this AD because they require no tools, can be done by observation, and can be done equally well by a pilot or a mechanic. However, the pilot must enter compliance with these requirements into the helicopter maintenance records by following 14 CFR 43.11 and 91.417(a)(2)(v).

• Within 50 hours TIS, and thereafter at intervals not to exceed 50 hours TIS, clean and inspect both sides of each blade for a crack using a 10X or higher magnifying glass.

• If a crack is found in the blade paint during a visual check or inspection, further inspect the blade as follows, before further flight:

• Remove the blade. Remove the paint to the bare metal in the area of the suspected crack by using plastic metal blasting (PMB) or a nylon web abrasive pad and abrading the blade surface in a span-wise direction only. (The AD incorrectly used the word “metal” instead of “media”.)

• Using a 10X or higher power magnifying glass, inspect the blade for a crack.

• If a crack is found, replace the blade with an airworthy blade before further flight.

• If no crack is found in the blade surface, refinish the blade by applying one coat of epoxy polyamide primer, MIL-P-23377 or MIL-P-85582, so that the primer overlaps the existing coats just beyond the abraded area. Let the area dry for 30 minutes to 1 hour. Then, apply one sealer coat of polyurethane, MILC85285 TYI CL2, color number 27925 (semi-gloss white), per Fed. Std. 595, and reinstall the blade. That action was prompted by reports of cracked blades that were found during scheduled inspections. The requirements of that AD are intended to detect a crack in a blade, and to prevent loss of a blade and subsequent loss of control of the helicopter.

AD 2005-04-09 required the same checks and inspections as AD 2004-26-11, but also expands the applicability of AD 2004-26-11 to include two additional helicopter serial numbers.

Since issuing AD 2005-04-09, BHTC has introduced a rework procedure for the affected tail rotor blades and two new part numbered tail rotor blades that eliminates the need for the recurring checks and inspections.

Transport Canada, the airworthiness authority for Canada, notified the FAA that an unsafe condition may exist on the specified BHTC model helicopters. Transport Canada advises of the discovery of cracked blades during scheduled inspections on three occasions. Two cracks originated from the outboard feathering bearing bore underneath the flanged sleeves. The third crack started from the inboard feathering bearing bore. Investigation found that the cracks originated from either a machining burr or a corrosion site in the bearing bore underneath the flanged sleeves.

BHTC has issued Alert Service Bulletin (ASB) No. 222-04-100, Revision B, for Model 222 and 222B helicopters; ASB No. 222U-04-71, Revision B, for Model 222U helicopters; ASB No. 230-04-31, Revision B, for Model 230 helicopters; and ASB No. 430-04-31, Revision C, for Model 430 helicopters, all dated March 31, 2008. The ASBs specify a visual inspection of the blade root end around the feathering bearings for a crack, not later than at the next scheduled inspection, and thereafter at every 3 flight hours maximum. Further, they describe a visual inspection for a crack, to include removing the blade from the helicopter if a crack is found in the paint, within the next 50 flight hours, and thereafter at every 50 flight hours. In addition, the ASBs state that, on or before December 31, 2008, each blade should be reworked by Rotor Blades, Inc., or exchanged if the blade has less than 4,000 hours TIS or if the blade has 4,000 or more hours TIS, the blade should continue to be repetitively inspected or a replacement blade should be ordered. Transport Canada classified these ASBs as mandatory and issued AD CF-2004-21R3, dated April 23, 2008, to ensure the continued airworthiness of these helicopters in Canada.

This proposal differs from the ASB in that it would require, on or before 90 days after the effective date of the AD, replacing all affected tail rotor blades with airworthy tail rotor blades that are not subject to the proposed inspection requirements, without differentiating between blades based on hours TIS. Additionally, operators are not required to send their tail rotor blade to Rotor Blades, Inc. for rework.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This previously described unsafe condition is likely to exist or develop on other helicopters of the same type designs. Therefore, the proposed AD would supersede AD 2005-04-09, and would apply as follows:

Helicopter model | Helicopter serial No. (S/N) | Blade part No. (P/N)
222 | 47006 through 47089 | 222-016-001-123, -123M, -127, -127M, -131, -135, -139M, -141M, except those P/Ns with S/Ns listed in Exceptions 1 and 2 or the “R” code described in Exception 3.
222B | 47131 through 47156 | 222-016-001-123, -123M, -127, -127M, -131, -135, -139M, -141M, except those P/Ns with S/Ns listed in Exceptions 1 and 2 or the “R” code described in Exception 3.
222U | 47501 through 47574 | 222-016-001-123, -123M, -131, -139M, except those P/Ns with a S/N listed in Exception 2 or the “R” code described in Exception 3.
230 | 23001 through 23038 | 222-016-001-123, -123M, -131, -139M, except those P/Ns with a S/N listed in Exception 2 or the “R” code described in Exception 3.
430 | 49001 through 49107 | 222-016-001-123, -123M, -131, -139M, except those P/Ns with a S/N listed in Exception 2 or the “R” code described in Exception 3.

Exception 1: Blade, P/N 222-016-001-135 or -141M, S/N A-1502, A-1503, A-1504, A-1505, A-1507, A-1508, A-1509, A-1510, A-1556, A-1557, A-1558, A-1560, A-1561, A-1574, A-1635, A-1636, A-1828, A-1829, and S/Ns with a prefix of “A” and a number greater than 1829 have the intent of this proposal accomplished prior to delivery and no further action is required by this proposed AD.

Exception 2: Blade, P/N 222-016-001-131 and -139M, S/N A-2049, A-2055, A-2060, A-2070, A-2071, A-2085, and S/Ns with a prefix of “A” and a number greater than 2085 have the intent of this proposal accomplished prior to delivery and no further action is required by this proposed AD.

Exception 3: Blades identified with an “R” code in the square block below the P/N field of the Data Plate have already been modified and no further actions are required by this proposed AD.

Note 1: New blades, P/N 222-016-001-139 and -141, with no letter on the Data Plate after the P/N, are not subject to the requirements of this proposed AD.

The proposed AD would require the following:

• Within 3 hours TIS, unless accomplished previously, and thereafter at intervals not to exceed 3 hours TIS, clean and visually check both sides of each blade for a crack in the area around the tail rotor feathering bearing. An owner/operator (pilot) holding at least a private pilot certificate may perform this check. Pilots may perform the checks required by paragraph (a) of this proposed AD because they require no tools, can be done by observation, and can be done equally well by a pilot or a mechanic. However, the pilot must enter compliance with these requirements into the helicopter maintenance records by following 14 CFR 43.11 and 91.417(a)(2)(v).

• Within 50 hours TIS, and thereafter at intervals not to exceed 50 hours TIS, clean and inspect both sides of each blade for a crack using a 10X or higher magnifying glass.

• If a crack is found in the blade paint during a visual check or inspection, further inspect the blade as follows, before further flight:

• Remove the blade. Remove the paint to the bare metal in the area of the suspected crack by using plastic media blasting (PMB) or a nylon web abrasive pad and abrading the blade surface in a span-wise direction only.

• Using a 10X or higher power magnifying glass, inspect the blade for a crack.

• If a crack is found, replace the blade with an airworthy blade before further flight.

• If no crack is found in the blade surface, refinish the blade by applying one coat of epoxy polyamide primer, MIL-P-23377 or MIL-P-85582, so that the primer overlaps the existing coats just beyond the abraded area. Let the area dry for 30 minutes to 1 hour. Then, apply one sealer coat of polyurethane, MILC85285 TYI CL2, color number 27925 (semi-gloss white), per Fed. Std. 595, and reinstall the blade.

Replacing an affected part-numbered blade with a blade that has a S/N that is not subject to or has been excepted from the requirements of this AD, or that has an “R” code in the square block below the P/N field of the Data Plate, would be considered a terminating action for the requirements of this proposed AD.

We estimate that this proposed AD would affect 156 helicopters of U.S. registry, and the proposed actions would require:

• Approximately 0.25 work hour for a pilot check, and 2 work hours for a maintenance inspection, at an average labor rate of $80 per work hour;

• Approximately 6 work hours to remove and replace the blade; and

• Parts, which would cost an estimated $13,410 per blade, assuming one blade per helicopter is replaced each year.

Based on these figures, we estimate the total cost impact of the proposed AD on U.S. operators to be $3,090,360, assuming each helicopter would require 200 pilot checks and 12 maintenance inspections prior to replacing a blade on or before the compliance date for all affected helicopters.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13981 (70 FR 8021, February 17, 2005), and by adding a new airworthiness directive (AD), to read as follows:

Bell Helicopter Textron Canada: Docket No. FAA-2008-0071; Directorate Identifier 2006-SW-27-AD. Supersedes AD 2005-04-09, Amendment 39 13981, Docket No. FAA-2005-20107.

Applicability: The following helicopter models, with a listed helicopter serial number (S/N) and a listed part-numbered tail rotor blade (blade) installed, that does not have an excepted S/N or code, certificated in any category.

Helicopter model | Helicopter S/N | Blade part No. (P/N)
222 | 47006 through 47089 | 222-016-001-123, -123M, -127, -127M, -131, -135, -139M, -141M, except those P/Ns with S/Ns listed in Exceptions 1 and 2 or the “R” code described in Exception 3.
222B | 47131 through 47156 | 222-016-001-123, -123M, -127, -127M, -131, -135, -139M, -141M, except those P/Ns with S/Ns listed in Exceptions 1 and 2 or the “R” code described in Exception 3.
222U | 47501 through 47574 | 222-016-001-123, -123M, -131, -139M, except those P/Ns with a S/N listed in Exception 2 or the “R” code described in Exception 3.
230 | 23001 through 23038 | 222-016-001-123, -123M, -131, -139M, except those P/Ns with a S/N listed in Exception 2 or the “R” code described in Exception 3.
430 | 49001 through 49107 | 222-016-001-123, -123M, -131, -139M, except those P/Ns with a S/N listed in Exception 2 or the “R” code described in Exception 3.

Exception 1: Blade, P/N 222-016-001-135 or -141M, S/N A-1502, A-1503, A-1504, A-1505, A-1507, A-1508, A-1509, A-1510, A-1556, A-1557, A-1558, A-1560, A-1561, A-1574, A-1635, A-1636, A-1828, A-1829, and S/Ns with a prefix of “A” and a number greater than 1829 have the intent of this proposal accomplished prior to delivery and no further action is required by this AD.

Exception 2: Blade, P/N 222-016-001-131 and -139M, S/N A-2049, A-2055, A-2060, A-2070, A-2071, A-2085, and S/Ns with a prefix of “A” and a number greater than 2085 have the intent of this proposal accomplished prior to delivery and no further action is required by this AD.

Exception 3: Blades identified with an “R” code in the square block below the P/N field of the Data Plate have already been modified and no further actions are required by this AD.

Note 1: New blades, P/N 222-016-001-139 and -141, with no letter on the Data Plate after the P/N, are not subject to the requirements of this AD.

Compliance: Required as indicated.

To detect a crack in a blade, and to prevent loss of the blade and subsequent loss of control of the helicopter, accomplish the following:

(a) Within 3 hours time-in-service (TIS), unless accomplished previously, and thereafter at intervals not to exceed 3 hours TIS, clean and visually check both sides of each blade for a crack in the paint in the areas shown in Figure 1 of this AD. An owner/operator (pilot), holding at least a private pilot certificate, may perform this visual check and must enter compliance with this paragraph into the helicopter maintenance records by following 14 CFR sections 43.11 and 91.417(a)(2)(v).

Note 2: Bell Helicopter Textron Alert Service Bulletin (ASB) No. 222-04-100, Revision B, for Model 222 and 222B helicopters; ASB No. 222U-04-71, Revision B, for Model 222U helicopters; ASB No. 230-04-31, Revision B, for Model 230 helicopters; and ASB No. 430-04-31, Revision C, for Model 430 helicopters, all dated March 31, 2008, pertain to the subject of this AD.

(b) If the visual check required by paragraph (a) of this AD reveals a crack in the paint, before further flight, remove the blade and follow the requirements in paragraphs (c)(2) through (c)(3)(ii) of this AD.

(c) Within the next 50 hours TIS, unless accomplished previously, and thereafter at intervals not to exceed 50 hours TIS, clean the blade by wiping down both surfaces of each blade in the inspection area depicted in Figure 1 of this AD using aliphatic naphtha (C-305) or detergent (C-318) or an equivalent. Using a 10X or higher power magnifying glass, visually inspect both sides of the blade in the areas depicted in Figure 1 of this AD.

(1) If a crack is found, even if only in the paint, before further flight, remove the blade from the helicopter and proceed with the following:

(2) Remove the paint on the blade down to the bare metal in the area of the suspected crack by using plastic media blasting (PMB) or a nylon web abrasive pad. Abrade the blade surface in a span-wise direction only.

Note 3: PMB may cause damage to helicopter parts if untrained personnel perform the paint removal. BHT-ALL-SPM, chapter 3, paragraph 3-24, pertains to the subject of this AD.

(3) Using a 10X or higher power magnifying glass, inspect the blade for a crack.

(i) If a crack is found, replace the blade with an airworthy blade before further flight.

(ii) If no crack is found in the blade surface, refinish the blade by applying one coat of epoxy polyamide primer, MIL-P-23377 or MIL-P-85582, so that the primer overlaps the existing coats just beyond the abraded area. Let the area dry for 30 minutes to 1 hour. Then, apply one sealer coat of polyurethane, MILC85285 TYI CL2, color number 27925 (semi-gloss white), per Fed. Std. 595. Reinstall the blade.

Note 4: BHT-ALL-SPM, chapter 4, pertains to painting the blade.

(d) On or before 90 days after the effective date of this AD, replace any affected serial-numbered blade with an airworthy blade that has a S/N that is not subject to, or has been excepted from, the requirements of this AD. Installing an airworthy blade that is not subject to the requirements of this AD, or has been excepted from the requirements of this AD, including those blades with an “R” code in the square block below the part number field of the Data Plate, constitute a terminating action for the requirements of this AD.

(e) To request a different method of compliance or a different compliance time for this AD, follow the procedures in 14 CFR 39.19. Contact the Manager, Safety Management Group, FAA, ATTN: Sharon Miles, Aviation Safety Engineer, FAA, Rotorcraft Directorate, Regulations and Policy Group, Fort Worth, Texas 76193-0111, telephone (817) 222-5122, fax (817) 222-5961, for information about previously approved alternative methods of compliance.

Note 5: The subject of this AD is addressed in Transport Canada (Canada) AD CF-2004-21R3, dated April 23, 2008.

Issued in Fort Worth, Texas, on June 26, 2008.
Lance T. Gant,
Acting Manager, Rotorcraft Directorate, Aircraft Certification Service.

[FR Doc. E8-17261 Filed 7-25-08; 8:45 am]

BILLING CODE 4910-13-P